DEPARTMENT OF TRANSPORTATION

Federal Aviation Administration

14 CFR Part 39

[Docket No. FAA-2005-20932; Directorate Identifier 2005-NE-11-AD; Amendment 39-14056; AD 2005-08-04]

RIN 2120-AA64

Airworthiness Directives; General Electric Company (GE) CF6-45 and CF6-50 Series Turbofan Engines

AGENCY: Federal Aviation Administration (FAA), DOT.

ACTION: Final rule; request for comments.

SUMMARY: The FAA is adopting a new airworthiness directive (AD) for GE CF6-45 and CF6-50 series turbofan engines. This AD requires reviewing accumulated cyclic-life records of 10 life-limited rotating parts, correcting those records, and removing from service parts that exceed the low-cycle-fatigue (LCF) life limits published in the Engine Manual Chapter 5, Airworthiness Limitations Section (ALS). This AD results from an error in a tracking database that subtracted flight cycles of certain serial number (SN) parts from the actual accumulated cycles. We are issuing this AD to prevent rotating parts that may have exceeded their LCF life limit from failing, leading to uncontained engine failure.

DATES: This AD becomes effective April 28, 2005.

We must receive any comments on this AD by June 13, 2005.

ADDRESSES: Use one of the following addresses to comment on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: Karen Curtis, Aerospace Engineer, Engine Certification Office, FAA, Engine and Propeller Directorate, 12 New England Executive Park, Burlington, MA 01803; telephone (781) 238-7192; fax (781) 238-7199.

SUPPLEMENTARY INFORMATION: In March of 2005, GE informed us that a records review of a certain engine revealed that the number of cycles accumulated on that engine, and its life-limited rotating parts, were recorded incorrectly in the operator's database in 1989. GE has advised us that the engine and rotating parts actually have more cycles accumulated than currently recorded. Upon further investigation, GE has confirmed that that engine was affected by an error in a tracking database that subtracted flight cycles from the actual accumulated cycles on a total of 32 rotating parts.

GE advises that 22 of the 32 affected rotating parts are in the control of a foreign operator, and under the jurisdiction of the Direction Generale de L'Aviation Civile (DGAC), which is the airworthiness authority for France. The DGAC advises that there are three of the 32 parts installed on foreign registered airplanes, but not under the jurisdiction of the DGAC. The location, current cycle count, and corrected cycle count are known for these 25 parts. None of these 25 parts have exceeded their LCF life limit. GE advises that they do not know the locations or current cycle counts of the remaining seven affected rotating parts. These seven parts could be in service with accumulated cyclic life exceeding their LCF life limit. We are including the three parts mentioned previously with the seven parts, as being affected by this AD, to ensure their cyclic lives get corrected. This condition, if not corrected, could result in failure of rotating parts that may have exceeded their LCF life limit, leading to uncontained engine failure.

FAA's Determination and Requirements of This AD

The unsafe condition described previously is likely to exist or develop on other GE CF6-45 and CF6-50 series turbofan engines of the same type design. For that reason, we are issuing this AD to prevent rotating parts that may have exceeded their LCF life limit, from failing, leading to uncontained engine failure. This AD requires:

• Reviewing the engine records within 10 days after the effective date of this AD, for the existence of rotating parts listed by SN in this AD; and

• Correcting the records for those parts; and

• Within 100 cycles-in-service after the effective date of this AD, removing from service those parts exceeding their LCF life limits.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to send us any written relevant data, views, or arguments regarding this AD. Send your comments to an address listed under ADDRESSES. Include “AD Docket No. FAA-2005-20932; Directorate Identifier 2005-NE-11-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-08-04 General Electric Company: Amendment 39-14056. Docket No. FAA-2005-20932; Directorate Identifier 2005-NE-11-AD.

Effective Date

(a) This airworthiness directive (AD) becomes effective April 28, 2005.

Affected ADs

(b) None.

Applicability

(c) This AD applies to General Electric Company (GE) CF6-45 and CF6-50 series turbofan engines. These engines are installed on, but not limited to, Boeing DC-10, 747 series, and Airbus Industrie A300 series airplanes.

Unsafe Condition

(d) This AD results from an error in a tracking database that subtracted flight cycles of certain serial number (SN) parts from the actual accumulated cycles. We are issuing this AD to prevent rotating parts that may have exceeded their low-cycle fatigue (LCF) life limit from failing, leading to uncontained engine failure.

Compliance

(e) You are responsible for having the actions required by this AD performed within the compliance times specified unless the actions have already been done.

Records Check

(f) Within 10 days after the effective date of this AD, do the following:

(1) Check the engine records for the part numbers (P/Ns) and SNs listed in Table 1 of this AD.

(2) Make the required cycle and hour corrections for those parts.

Table 1.—Rotating Parts Requiring Cyclic Life Correction
P/N | SN | Part name | Required cycle correction | Required hour correction
9051M71P17 | MPOA0748 | Disk, Fan Stage 1 | +2,429 | +15,936
9079M63P17 | MPOC7054 | Shaft, Compressor Rotor Rear | +2,429 | +15,936
9234M35P01 | MPOU3470 | Shaft, Forward High Pressure Turbine (HPT) Rotor | +2,429 | +15,936
9128M81G03 | APV01489 | Shaft, HPT Rotor Rear | +2,429 | +15,936
9080M27P04 | MPOA0853 | Shaft, Fan Forward | +2,429 | +15,936
(9080M28G10) |  | (Shaft, Fan Forward-Balanced)
9061M21P03 | SNE01254 | Disk, Low Pressure Turbine (LPT) Rotor Stage 1 | +1,224 | +5,708
9061M70G01 | KLA00801 | Tube, LPT Air | +2,429 | +15,936
9185M75G01 | MPOH4228 | Spool, Fan Rotor Stage 2-4 | +2,429 | +15,936
9045M86P10 | CAN01080 | Adapter, Tube | +2,429 | +15,936
9061M26P20 | PMOA0508 | Shaft, LPT Rear | +2,429 | +15,936

(3) After correcting the cycles and hours, remove from service any rotating parts listed in Table 1 of this AD that exceed their LCF life limit, within 100 cycles-in-service after the effective date of this AD.

(g) After the effective date of this AD, do not install any part listed in Table 1 of this AD into any engine, unless the cycles and hours have been corrected as specified in paragraph (f) of this AD.

(h) After the effective date of this AD, do not install any engine unless the records check specified in paragraph (f) of this AD has been performed.

Alternative Methods of Compliance

(i) The Manager, Engine Certification Office, has the authority to approve alternative methods of compliance for this AD if requested using the procedures found in 14 CFR 39.19.

Related Information

(j) General Electric Company Alert Service Bulletin No. CF6-50 S/B 72-A1275, dated March 24, 2005, pertains to the subject of this AD.

Material Incorporated by Reference

(k) None.

Issued in Burlington, Massachusetts, on April 7, 2005.
Jay J. Pardee,
Manager, Engine and Propeller Directorate, Aircraft Certification Service.

[FR Doc. 05-7387 Filed 4-12-05; 8:45 am]

BILLING CODE 4910-13-P